DEPARTMENT OF THE TREASURY

Agency Information Collection Activities; Submission for OMB Review; Comment Request; Multiple FinCEN Information Collection Requests; Correction

AGENCY: Departmental Offices, U.S. Department of the Treasury.

ACTION: Notice of information collection; correction.

SUMMARY: The Department of the Treasury published a document in the Federal Register of July 30, 2025, concerning request for comments on information collection requests being submitted to the Office of Management and Budget (OMB) for review and clearance in accordance with the Paperwork Reduction Act of 1995. The document contained errors in the burden estimates for three of the Financial Crimes Enforcement Network information collection requests.

FOR FURTHER INFORMATION CONTACT: Copies of the submissions may be obtained from Spencer W. Clark by emailing PRA@treasury.gov, calling (202) 927-5331, or viewing the entire information collection request at www.reginfo.gov.

SUPPLEMENTARY INFORMATION:

Correction

In the Federal Register of July 30, 2025, in FR Doc. 2025-14405 (90 FR 35963), correct the following sections to read:

2. Title: Additional records to be made and retained by casinos.

OMB Control Number: 1506-0054.

Abstract: FinCEN is issuing this notice to renew the OMB control number for regulations requiring additional records to be made and retained by casinos.

Affected Public: Businesses or other for-profit institutions.

Type of Review: Renewal without change of a currently approved information collection.

Estimated Number of Respondents: 1,292.

Frequency of Response: As required.

Estimated Total Number of Annual Responses: 2,183,460.

Estimated Average Recordkeeping Time per Response: 0.05 hours.

Estimated Total Annual Burden Hours: 118,863 hours.

3. Title: Reports of transactions with foreign financial agencies.

OMB Control Number: 1506-0055.

Abstract: FinCEN is issuing this notice to renew the OMB control number for regulations requiring reports of transactions with designated FFAs.

Affected Public: Businesses or other for-profit institutions, and non-profit institutions.

Type of Review: Renewal without change of a currently approved information collection.

Estimated Number of Potential Respondents: 46,158.

Estimated Number of Expected Respondents: 40.

Frequency of Response: As required.

Estimated Total Number of Annual Responses: 240.

Estimated Average Time per Response: 168.75 hours.

Estimated Total Annual Burden Hours: 40,500.

4. Title: Reporting obligations on foreign bank relationships with Iranian-linked financial institutions designated under IEEPA and IRGC-linked persons designated under IEEPA.

OMB Control Number: 1506-0066.

Form Number: Optional form—certification for purposes of section 104(e) of CISADA.

Abstract: FinCEN is issuing this notice to renew the OMB control number for the CISADA regulations that require, upon receiving a CISADA Request, a U.S. bank that maintains a correspondent account for a specified foreign bank to inquire with the foreign bank and report to FinCEN with respect to transactions or other financial services provided by that foreign bank to Iranian-linked financial institutions and IRGC-linked persons.

Affected Public: Businesses or other for-profit institutions, and non-profit institutions.

Type of Review: Renewal without change of a currently approved information collection.

Estimated Number of Potential Respondents: 9,384.

Estimated Number of Expected Respondents: 24.

Frequency of Response: As required.

Estimated Total Number of Annual Responses: 72.

Estimated Average Time per Response: 2.16 hours.

Estimated Total Annual Burden Hours: 156 hours.

Authority: 44 U.S.C. 3501 et seq.

Spencer W. Clark,
Treasury PRA Clearance Officer.

[FR Doc. 2025-16048 Filed 8-20-25; 8:45 am]

BILLING CODE 4810-02-P